NEIGHBORHOOD REINVESTMENT CORPORATION

Regular Board of Directors Sunshine Act Meeting

TIME AND DATE: 10:00 a.m., Wednesday, September 28, 2016.

PLACE: NeighborWorks America—Gramlich Boardroom, 999 North Capitol Street NE., Washington, DC 20002.

STATUS: Open (with the exception of Executive Session).

CONTACT PERSON: Jeffrey Bryson, EVP & General Counsel/Secretary, (202) 760-4101; jbryson@nw.org.

AGENDA:

I. Call to Order

II. Recognition of Helen Kanovsky

III. Approval of Minutes

IV. Executive Session: Report from CEO

V. Executive Session: Appointment of New COO

VI. Executive Session: Audit Committee Report

VII. Executive Session: Report from CFO

VIII. Executive Session: 457(b) Plan Update

IX. Strategic Plan

X. FY2017 Corporate Goals

XI. FY2017 Preliminary Spending Plan

XII. Extension of DC Lease/Acquisition of Space

XIII. Management Program Background & Updates

XIV. Adjournment

The General Counsel of the Corporation has certified that in his opinion, one or more of the exemptions set forth in 5 U.S.C. 552(b)(2) and (4) permit closure of the following portions of this meeting:

• Report from CEO

• Appointment of New COO

• Audit Committee Report Out

• Report from CFO

• 457(b) Plan Update

Jeffrey T. Bryson,
EVP & General Counsel/Corporate Secretary.

[FR Doc. 2016-23321 Filed 9-22-16; 4:15 pm]

BILLING CODE 7570-02-P